DEPARTMENT OF LABOR

Employment and Training Administration

[Docket No. TA-W-37,685]

Makco Manufacturing Co., Inc., Edinboro, Pennsylvania; Notice of Termination of Investigation

Pursuant to section 221 of the Trade Act of 1974, an investigation was initiated on May 22, 2000, in response to a worker petition which was filed on behalf of workers at Makco Manufacturing Co., Inc., Engineering Department, Edinboro, Pennsylvania.

All workers were separated from the subject firm more than one year prior to the date of the petition. Section 223 of the Act specifies that no certification may apply to any worker whose last separation occurred more than one year before the date of the petition. Consequently, further investigation in this case would serve no purpose, and the investigation has been terminated.

Signed at Washington, D.C. this 30th day of June, 2000.
Edward A. Tomchick,
Program Manager, Office of Trade Adjustment Assistance.

[FR Doc. 00-18362 Filed 7-19-00; 8:45 am]

BILLING CODE 4510-30-M